DEPARTMENT OF JUSTICE

Drug Enforcement Administration

[Docket No. DEA-871]

Importer of Controlled Substances Application: Purisys, LLC

AGENCY: Drug Enforcement Administration, Justice.

ACTION: Notice of application.

SUMMARY: Purisys, LLC. has applied to be registered as an importer of basic class(es) of controlled substance(s). Refer to Supplementary Information listed below for further drug information.

DATES: Registered bulk manufacturers of the affected basic class(es), and applicants therefore, may file written comments on or objections to the issuance of the proposed registration on or before August 30, 2021. Such persons may also file a written request for a hearing on the application on or before August 30, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on June 29, 2021, Purisys, LLC., 1550 Olympic Drive, Athens, Georgia 3601-1602, applied to be registered as an importer of the following basic class(es) of controlled substance(s):

Controlled substance | Drug code | Schedule
Opium, raw | 9600 | II
Opium, powdered | 9639 | II
Opium, granulated | 9640 | II

The company plans to import Opium, raw (9600), Opium, powered (9639) and Opium, granulated (9640) to manufacture Active Pharmaceutical Ingredient (API) only for distribution to its customers. No other activity for these drug codes is authorized for this registration. Approval of permit applications will occur only when the registrant's business activity is consistent with what is authorized under 21 U.S.C. 952(a)(2). Authorization will not extend to the import of the Food and Drug Administration-approved or non-approved finished dosage forms for commercial sale.

Brian S. Besser,
Acting Assistant Administrator.

[FR Doc. 2021-16142 Filed 7-28-21; 8:45 am]

BILLING CODE P